DEPARTMENT OF TRANSPORTATION

Surface Transportation Board

[Docket No. FD 35726]

Transport Handling Specialists, Inc.—Continuance in Control Exemption—RSL Railroad, LLC

Transport Handling Specialists, Inc. (THS), has filed a verified notice of exemption (Notice) under 49 CFR 1180.2(d)(2) to continue in control of RSL Railroad, LLC (RSL), upon RSL's becoming a Class III rail carrier. By decision served May 15, 2013, the Board held the publication and effectiveness of the Notice in abeyance pending record supplementation and further Board action. THS supplemented the record on June 3, 2013, and June 17, 2013. The abeyance in this proceeding will be lifted upon service of this Notice.

This transaction is related to a verified notice of exemption filed in RSL Railroad LLC—Operation Exemption—Massillon Energy & Technology Park, Docket No. FD 35672, wherein RSL is seeking Board authority to operate an approximately 1.27-mile line in Massillon, Stark County, Ohio.

The transaction may be consummated on or after July 26, 2013 (the effective date of this exemption).

THS states that it has a 50% ownership interest in RSL, with the remaining interest equally split among three other individuals.¹ THS states that it also owns 100% of Big Spring Rail System, Inc., a Class III rail carrier that operates in Big Spring, Texas.²

¹ Notice 3 (Apr. 29, 2013); Notice, Ex. 3, Schedule A.

² Supplement 2 (June 17, 2013).

THS certifies that: (1) The rail line to be operated by RSL does not connect with any other railroads in the THS corporate family; (2) the continuance in control is not part of a series of anticipated transactions that would connect the rail line to be operated by RSL with any other railroad in the THS corporate family; and (3) the transaction does not involve a Class I rail carrier. Therefore, the transaction is exempt from the prior approval requirements of 49 U.S.C. 11323. See 49 CFR 1180.2(d)(2).

Under 49 U.S.C. 10502(g), the Board may not use its exemption authority to relieve a rail carrier of its statutory obligation to protect the interests of its employees. Section 11326(c), however, does not provide for labor protection for transactions under 11324 and 11325 that involve only Class III rail carriers. Accordingly, the Board may not impose labor protective conditions here because all of the carriers involved are Class III carriers.

If the notice contains false or misleading information, the exemption is void ab initio. Petitions to revoke the exemption under 49 U.S.C. 10502(d) may be filed at any time. The filing of a petition to revoke will not automatically stay the effectiveness of the exemption. Stay petitions must be filed no later than July 19, 2013 (at least 7 days before the exemption becomes effective).

An original and 10 copies of all pleadings, referring to Docket No. FD 35726, must be filed with the Surface Transportation Board, 395 E Street SW., Washington, DC 20423-0001. In addition, one copy of each pleading must be served on Baxter Wellmon, 1554 Paoli Pike #179, West Chester, PA 19380.

Board decisions and notices are available on our Web site at “www.stb.dot.gov.”

Decided: July 9, 2013.
By the Board, Rachel D. Campbell, Director, Office of Proceedings.
Raina S. White,
Clearance Clerk.

[FR Doc. 2013-16741 Filed 7-11-13; 8:45 am]

BILLING CODE 4915-01-P